DEPARTMENT OF HOMELAND SECURITY

Coast Guard

33 CFR Part 117

[CGD05-06-005]

RIN 1625-AA-09

Drawbridge Operation Regulations; Shark River (South Channel), Avon, NJ

AGENCY: Coast Guard, DHS.

ACTION: Final rule; notice of temporary deviation from regulations.

SUMMARY: The Commander, Fifth Coast Guard District, has approved a temporary deviation from the regulations governing the operation of the New Jersey Transit Railroad Drawbridge, at mile 0.9, across the South Channel of the Shark River at Belmar, New Jersey, south of Avon. To facilitate electrical repairs, this deviation allows the drawbridge to remain closed-to-navigation from 11 p.m. on February 10, 2006, until 12 p.m. (noon) on February 11, 2006, and from 11 p.m. on February 24, 2006, until 12 p.m. (noon) on February 25, 2006. If required, a rain date has been set from 11 p.m. on March 10, 2006, until 12 p.m. (noon) on March 11, 2006.

DATES: This deviation is effective from 11 p.m. on February 10, 2006, to 12 p.m. (noon) on March 11, 2006.

ADDRESSES: Materials referred to in this document are available for inspection or copying at Commander (obr), Fifth Coast Guard District, Federal Building, 1st Floor, 431 Crawford Street, Portsmouth, VA 23704-5004 between 8 a.m. and 4 p.m., Monday through Friday, except Federal holidays. The telephone number is (757) 398-6587. Commander (obr), Fifth Coast Guard District maintains the public docket for this temporary deviation.

FOR FURTHER INFORMATION CONTACT: Terrance Knowles, Environmental Protection Specialist, Fifth Coast Guard District, at (757) 398-6587.

SUPPLEMENTARY INFORMATION: The New Jersey Transit Railroad Bridge (at mile 0.9) across the South Channel of Shark River, a lift-type drawbridge, has a vertical clearance in the closed position to vessels of 10 feet, at mean high water.

The bridge owner, New Jersey Transit Rail Operations, has requested a temporary deviation from the current operating regulation set out in 33 CFR 117.751, to effect electrical repairs on the draw span.

To facilitate the repairs, the drawbridge will be closed to navigation from 11 p.m. on February 10, 2006, until 12 p.m. (noon) on February 11, 2006, and from 11 p.m. on February 24, 2006, until 12 p.m. (noon) on February 25, 2006. If required, a rain date has been set from 11 p.m. on March 10, 2006, until 12 p.m. (noon) on March 11, 2006. During these periods, the repairs require immobilizing the operation of the lift span in the closed-to-navigation position. At all other times, the drawbridge will operate in accordance with the current operating regulations outlined in 33 CFR 117.751.

The Coast Guard has informed the known users of the waterway so that they can arrange their transits to minimize any impact caused by the temporary deviation.

In accordance with 33 CFR 117.35(c), this work will be performed with all due speed in order to return the bridge to normal operation as soon as possible.

This deviation from the operating regulations is authorized under 33 CFR 117.35.

Dated: January 25, 2006.
Waverly W. Gregory, Jr.,
Chief, Bridge Administration Branch, Fifth Coast Guard District.

[FR Doc. 06-1086 Filed 2-6-06; 8:45 am]

BILLING CODE 4910-15-P